DEPARTMENT OF LABOR

Occupational Safety and Health Administration

[Docket No. OSHA-2017-0010]

Nevada State Plan; Change in Level of Federal Enforcement: Private-Sector Employment on Military Bases

AGENCY: Occupational Safety and Health Administration (OSHA), Department of Labor.

ACTION: Notice.

SUMMARY: This document gives notice of OSHA's approval of a change to the state of Nevada's Occupational Safety and Health State Plan reinstating federal OSHA enforcement authority over private-sector employment on military facilities and bases in Nevada. The Nevada State Plan currently has coverage over some private-sector contractors on military bases. Therefore, OSHA amends the Nevada State Plan's coverage to reflect this change in the level of federal enforcement.

DATES: Applicable Date: October 13, 2017.

FOR FURTHER INFORMATION CONTACT: For press inquiries: Francis Meilinger, Director, OSHA Office of Communications: Telephone: (202) 693-1999; email: meilinger.francis2@dol.gov.

For general and technical information: Douglas J. Kalinowski, Director, OSHA Directorate of Cooperative and State Programs: Telephone: (202) 693-2200; email: kalinowski.doug@dol.gov.

SUPPLEMENTARY INFORMATION: Section 18 of the Occupational Safety and Health Act of 1970, 29 U.S.C. 667 (OSH Act), provides that states that assume responsibility for developing and enforcing their own occupational safety and health standards may do so by submitting and obtaining federal approval of a State Plan. State Plan approval occurs in stages which include initial approval under section 18(c) of the OSH Act and, ultimately, final approval under section 18(e).

The Nevada State Plan was initially approved under Section 18(c) of the OSH Act on January 4, 1974 (39 FR 1009). The Nevada State Plan is administered by the Department of Business and Industry, Division of Industrial Relations, Nevada Occupational Safety and Health Administration (Nevada OSHA). On April 18, 2000, OSHA announced the final approval of the Nevada State Plan pursuant to section 18(e) and amended 29 CFR part 1952 to reflect the Assistant Secretary's decision (65 FR 20742). As a result, federal OSHA relinquished its enforcement authority with regard to occupational safety and health issues covered by the Nevada State Plan.

Federal OSHA retained its authority over safety and health in the private sector over maritime employment; contract workers, and contractor-operated facilities engaged in U.S. Postal Service mail operations; contractors and subcontractors on land under exclusive federal jurisdiction; employment on Indian Land; and any hazard, industry, geographical area, operation, or facility over which the state is unable to effectively exercise jurisdiction for reasons not related to the required performance or structure of the plan.

To establish military facilities, the Federal Government may privately purchase or lease land, as any other entity would, and in those cases a State Plan can cover private-sector occupational safety and health on such land. In other cases, the Federal Government may ask a State to cede the land to the Federal Government, in which case the latter obtains jurisdiction over it; however, a State may retain some jurisdiction. Thus, the determination whether the State Plan or federal OSHA covers private-sector employers on military facilities can be complicated. For example, military facilities in Nevada sometimes encompass both land where jurisdiction has been ceded and land privately owned by the Federal Government (though federal OSHA covers all federal civilian employees on military facilities). This situation has created confusion as to whether federal OSHA or the Nevada State Plan covers private-sector employers on a military facility, and is a resource-intensive inquiry. Thus, the Nevada State Plan requested on December 14, 2016, that federal OSHA resume enforcement authority over all private-sector employment on military facilities and bases. After discussions between federal OSHA and Nevada OSHA, both agencies agreed that federal coverage of all private-sector contractors on military bases was the best solution to ensure prompt and effective protection to workers on military bases in Nevada.

Accordingly, notice is hereby given of the change in federal enforcement authority over private-sector contractors on military bases in Nevada, and coverage is transferred from the Nevada State Plan to federal OSHA.

Authority and Signature

Loren Sweatt, Deputy Assistant Secretary of Labor for Occupational Safety and Health, U.S. Department of Labor, authorized the preparation of this notice. OSHA is issuing this notice under the authority specified by Section 18 of the Occupational Safety and Health Act of 1970 (29 U.S.C. 667), Secretary of Labor's Order No. 1-2012 (77 FR 3912), and 29 CFR parts 1902, 1953 and 1955.

Signed in Washington, DC, on October 3, 2017.
Loren Sweatt,
Deputy Assistant Secretary of Labor for Occupational Safety and Health.

[FR Doc. 2017-22175 Filed 10-12-17; 8:45 am]

BILLING CODE 4510-26-P